FEDERAL COMMUNICATIONS COMMISSION

47 CFR Part 73

[DA 00-2590; MM Docket No. 00-128; RM-9912]

Radio Broadcasting Services; Pilot Rock, OR

AGENCY: Federal Communications Commission.

ACTION: Final rule.

SUMMARY: The Commission, at the request of Aaron Bruton, allots Channel 221C3 to Pilot Rock, OR, as the community's first local aural service. See 65 FR 45722, July 25, 2000. Channel 221C3 can be allotted to Pilot Rock in compliance with the Commission's minimum distance separation requirements with a site restriction of 14.5 kilometers (9 miles) west, at coordinates 45-30-00 NL; 119-00-56 WL, to avoid a short-spacing to Station KWVR, Channel 221A, Enterprise, OR. A filing window for Channel 221C3 at Pilot Rock will not be opened at this time. Instead, the issue of opening a filing window for this channel will be addressed by the Commission in a subsequent order.

DATES: Effective January 2, 2001.

FOR FURTHER INFORMATION CONTACT: Leslie K. Shapiro, Mass Media Bureau, (202) 418-2180.

SUPPLEMENTARY INFORMATION: This is a synopsis of the Commission's Report and Order, MM Docket No. 00-128, adopted November 8, 2000, and released November 17, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of title 47 of the Code of Federal Regulations is amended as follows:

PART 73—RADIO BROADCAST SERVICE

1. The authority citation for part 73 continues to read as follows:

Authority: 47 U.S.C. 154, 303, 334 and 336.

§ 73.202 [Amended]

2. Section 73.202(b), the Table of FM Allotments under Oregon, is amended by adding Pilot Rock, Channel 221C3.

Federal Communications Commission.
John A. Karousos,
Chief, Allocations Branch, Policy and Rules Division, Mass Media Bureau.

[FR Doc. 00-30505 Filed 11-29-00; 8:45 am]

BILLING CODE 6712-01-P